DEPARTMENT OF THE INTERIOR

Office of the Secretary

Interior Board of Indian Appeals, Office of Hearings and Appeals; Review of Historical Trust Accounting

AGENCY: Office of the Secretary; Interior Board of Indian Appeals; Office of Hearings and Appeals, Interior.

ACTION: Notice of appeal procedures and practice.

DATES: This notice is effective immediately.

ADDRESSES: Office of the Secretary, Department of the Interior, 1849 C Street, NW, Washington, DC 20240.

FOR FURTHER INFORMATION CONTACT: Robert More, Office of Hearings and Appeals, 801 N. Quincy Street, Suite 300, Arlington, VA 22203.

SUMMARY: Notice is hereby given that the Secretary of the Interior has directed the Interior Board of Indian Appeals, Office of Hearings and Appeals, pursuant to 43 CFR 4.1(b)(2)(ii) and 4.330(a)(2), and Secretarial Order No. 3242, to exercise administrative review authority for appeals from all historical accountings by the Office of Historical Trust Accounting. The Procedures and Practice specified in 43 CFR part 4 shall apply to appeals from the Office of Historical Trust Accounting to the Interior Board of Indian Appeals. References to the Bureau of Indian Affairs in such Procedures and Practices (including those in 43 CFR 4.331(c), 4.312, 4.314(a), 4.318, 4.331, 4.332, 4.333, 4.335, 4.338, and 4.340) shall be deemed also to apply to the Office of Historical Trust Accounting for the purpose of administrative review by the Interior Board of Indian Appeals.

Dated: September 5, 2002.
J. Steven Griles,
Deputy Secretary.

[FR Doc. 02-22917 Filed 9-5-02; 1:05 pm]

BILLING CODE 4310-02-M